DEPARTMENT OF COMMERCE

Census Bureau

Quarterly Survey of State and Local Government Tax Revenue

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 21, 2006.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT Requests for additional information or copies of the information collection instrument(s) and instructions should be directed to Christopher Pece, Chief, Public Finance Analysis Branch-B, Governments Division, U.S. Census Bureau, Washington, DC 20233-6800 (301-763-7330).

SUPPLEMENTARY INFORMATION:

I. Abstract

The U.S. Census Bureau plans to request an extension of the Quarterly Survey of State and Local Tax Revenue. The Census Bureau needs state and local tax data to produce benchmark statistics on public sector taxes; to provide data to the Bureau of Economic Analysis for GDP calculations and other economic indicators; and to provide data for economic research and comparative studies of governmental finances. The Census Bureau collects data quarterly from state and local government tax collecting agencies.

Tax collection data serve as important measures of economic activity for the Nation as a whole, as well as for comparison among the various states. These data are also useful in comparing the mix of taxes employed by individual states and in determining the revenue raising capacity of different types of taxes.

The survey collects data using three forms:

• Form F-71 obtains data on local government property taxes. The Census Bureau sends this form to 5,448 local government tax-collecting agencies in 530 county areas. While some counties are served by a single county-level tax collection agency, others have a mix of county, city, township, special district, and school district collectors. The form requests that each collecting agency report the total property tax collections during the past quarter.

• Form F-72 obtains data on state government taxes. The Census Bureau sends this form to state government revenue, finance, or budget agencies to obtain tax collection data for the preceding 3-month period.

• Form F-73 obtains data on major local government non-property taxes. Currently 111 local government tax collection agencies with substantial collections of local general sales and local income taxes qualify to receive this form.

II. Method of Collection

The Census Bureau canvasses the F-71 respondents by mail. Census Bureau staff manually screen most responses and enter data via an internal Web site. We encourage governments to respond via the Internet, where they can enter data directly.

We fashion the F-72 requests according to respondents wishes, either e-mail or facsimile.

Respondents have several options for replying—e-mail, postal service, or electronically. The Census Bureau dispatches the F-73 forms by postal service, facsimile, or electronically, as requested by the governments. Respondents may use any of these formats for the returns.

In those instances when we are not able to obtain a response we conduct a follow-up.

III. Data

OMB Number: 0607-0112.

Form Number: F-71, F-72, and F-73.

Type of Review: Regular.

Affected Public: State and local governments.

Estimated Number of Respondents: 5,610.

Estimated Time Per Response: 25 minutes.

Estimated Total Annual Burden Hours: 5,661.

Estimated Total Annual Cost: The estimated cost to the respondents is $113,277.

Respondent's Obligation: Voluntary.

Legal Authority: Title 13 U.S.C., section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 15, 2005.
Madeleine Clayton,
Management Analyst, Office of the Chief Information Officer.

[FR Doc. E5-7586 Filed 12-20-05; 8:45 am]

BILLING CODE 3510-07-P